DEPARTMENT OF DEFENSE

Department of the Air Force

[Docket ID: USAF-2011-0010]

Proposed Collection; Comment Request

AGENCY: Department of the Air Force, DoD.

ACTION: Notice.

SUMMARY: In compliance with Section 3506(c)(2)(A) of the Paperwork Reduction Act of 1995, the United States Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 16, 2011.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to HQ USAF/A1SZ, Air Force Warrior and Survivor Care, 1040 Air Force Pentagon, Washington, DC 20330-1040 or call (703) 697-1089, Monday through Friday, 9 a.m. to 5 p.m., Eastern Time.

Title; Associated Form; and OMB Number: Warrior and Survivor Care; OMB Control Number 0701-TBD.

Needs and Uses: The information collection requirement is necessary to obtain information on the reintegration needs of combat-injured Airmen from the perspectives of their primary supporters, the family members and friends whom the Airmen nominate as their most frequent provider of help to deal with problems. Anecdotal reports from Air Force program case managers suggest that these individuals represent an important source of support to combat-injured Airmen as they reintegrate into civilian life and offer unique information on the challenges encountered by these Airmen during the process of reintegration. This information collection will be the first large-scale, systematic effort to assess primary supporters' perspectives on combat-injured Airmen's reintegration needs. It will also assess primary supporters' perceptions of the effectiveness of the two key Air Force programs that serve combat-injured Airmen, the Air Force Wounded Warrior Program and Air Force Recovery Care Coordinator Program, in addressing the needs of combat-injured Airmen. This information collection will provide a valuable window into the social support provided to the Airmen, yield insights into how existing sources of support can be strengthened and leveraged to facilitate the Airmen's reintegration into civilian life, and inform Air Force program improvements to address combat-injured Airmen's reintegration needs.

Affected Public: Individuals or households.

Total Burden Hours Over 3 Years: 728.

Number of Respondents Over 3 Years (Unduplicated): 557.

Maximum Responses per Respondent: 5.

Average Burden per Response (hours): 25/60.

Frequency: Semi-annually.

Table—Estimated Burden Over 3-Year Period
| Number of responses per respondent over 3 years | Number of respondents: Year 1: Wave 1 | Number of respondents: Year 1: Wave 2 | Number of respondents: Year 2: Wave 3 | Number of respondents: Year 2: Wave 4 | Number of respondents: Year 3: Wave 5 | Number of respondents: Year 3: 3-year Total | Burden hours over 3 years
Cohort 1 | 5 | 287 | 253 | 222 | 196 | 172 | 1,131 | 471
Cohort 2 | 4 | N/A | 81 | 71 | 63 | 55 | 270 | 112
Cohort 3 | 3 | N/A | N/A | 63 | 55 | 49 | 167 | 70
Cohort 4 | 2 | N/A | N/A | N/A | 63 | 55 | 118 | 49
Cohort 5 | 1 | N/A | N/A | N/A | N/A | 63 | 63 | 26
3-Year total |  |  |  |  |  |  | 1,748 | 728
N/A = Not Applicable. The decrease in the number of respondents within each cohort from one wave to the next reflects an expected retention rate of 88%.

SUPPLEMENTARY INFORMATION:

Summary of Information Collection

This project is being funded by the U.S. Air Force and conducted by the RAND Corporation. Respondents will be primary supporters of combat-injured Airmen served by the Air Force Wounded Warrior Program. These individuals are nominated by combat-injured Airmen as the family member or friend to whom the Airman most often turns for help with problems. All primary supporters nominated by combat-injured Airmen will be invited to participate in the information collection (i.e., survey administration), which will occur no more than semi-annually in each year over a three-year period. Primary supporters who choose to participate will be presented with the option of completing the information collection on the telephone or on the Web. The collection instrument assesses primary supporters' perceptions of Airmen's well-being, primary supporters' own well-being, provision of social support to the Airmen, and perceptions of the effectiveness of existing Air Force programs at meeting the needs of combat-injured Airmen.

The proposed project will utilize a cohort-sequential design. Thus, we will recruit the first cohort of primary supporters and follow up with them at each subsequent survey administration until the end of the three-year period. At each subsequent survey administration, we will also recruit a new cohort of primary supporters nominated by combat-injured Airmen who have become eligible for services from the Air Force Wounded Warrior Program since the nomination of the previous cohort of primary supporters. We plan on a total of five waves of the information collection and thus five cohorts of primary supporters over the three-year period. Based on previous research, we expect a response rate of 86% among the primary supporters nominated by combat-injured Airmen and a retention rate of 88% from each wave of the information collection to the next.

We expect the nomination of 334 primary supporters for the first information collection and, assuming a response rate of 86%, we anticipate 287 completed primary supporter surveys for the first (baseline) information collection. At the time of the second information collection, we will administer the survey again to the first cohort of primary supporters and survey a second, new cohort of primary supporters nominated by combat-injured Airmen who have recently been accessed into the Air Force Wounded Warrior Program. We anticipate the retention of 88% of the 287 primary supporters who completed the first information collection, for a total of 253 primary supporters from Cohort 1 to be followed up at the second wave of the information collection. We also expect the nomination of 94 additional primary supporters during the interval in between the first and second information collections and thus, assuming a response rate of 86%, 81 new primary supporters in the second cohort completing the second information collection. At each of the three subsequent waves of the information collection, we expect 73 primary supporters to be nominated by combat-injured Airmen and, again assuming a response rate of 86%, the recruitment of 63 new primary supporter respondents into the information collection in the third, fourth, and fifth cohorts.

Assuming these recruitment levels for new cohorts at each wave of the information collection and a retention rate of 88% from one wave to the next, we estimate a total of 557 unduplicated respondents over the three-year period (i.e., counting each respondent only once, regardless of how many waves of information collection they complete). This total is the sum of the numbers of respondents in each cohort at the first wave of the information collection completed by that cohort, i.e., the 287 respondents in Cohort 1 plus the 81 respondents in Cohort 2 plus the 63 respondents in Cohort 3, etc. The information collection is estimated to take 25 minutes or 25/60 hours per response to complete. Assuming this burden per response and a total of 1,748 responses over the three-year period (sum of the number of responses anticipated for each cohort, including multiple responses from respondents) results in a total estimated respondent burden of 728 hours over the three-year period. The estimated respondent burden for the three-year period is detailed in the above table.

If this information is not collected from primary supporters of combat-injured Airmen, key needs of combat-injured Airmen may go ignored, and critical leverage points for facilitating Airmen's adjustment may be overlooked. This information collection will inform Air Force program improvements to bolster existing supports and expand the array of supports needed to promote combat-injured Airmen's adjustment.

Dated: March 3, 2011.
Morgan F. Park,
Alternate OSD Federal Register Liaison Officer, Department of Defense.

[FR Doc. 2011-5915 Filed 3-14-11; 8:45 am]

BILLING CODE 5001-06-P